DEPARTMENT OF EDUCATION

Office of Special Education and Rehabilitative Services; Overview Information; Special Education—Research and Innovation To Improve Services and Results for Children With Disabilities—National Center on Secondary, Transition, and Postsecondary School Outcomes for Students With Disabilities Notice Inviting Applications for New Awards for Fiscal Year (FY) 2004

Catalog of Federal Domestic Assistance (CFDA) Number: 84.324S.

Dates:

Applications Available: June 7, 2004.

Deadline for Transmittal of Applications: July 19, 2004.

Eligible Applicants: State educational agencies (SEAs), local educational agencies (LEAs), institutions of higher education (IHEs), other public agencies, nonprofit private organizations, outlying areas, freely associated States, and Indian tribes or tribal organizations.

Estimated Available Funds: $700,000.

Maximum Award: We will reject any application that proposes a budget exceeding $700,000 for a single budget period of 12 months. The Assistant Secretary for the Office of Special Education and Rehabilitative Services may change the maximum amount through a notice published in the Federal Register.

Number of Awards: 1.

Note: The Department is not bound by any estimates in this notice.

Project Period: Up to 60 months.

Full Text of Announcement

I. Funding Opportunity Description

Purpose of Program: To produce, and advance the use of, knowledge to improve the results of education and early intervention for infants, toddlers, and children with disabilities.

Priority: In accordance with 34 CFR 75.105(b)(2)(iv), this priority is from allowable activities specified in the statute (see sections 661(e)(2) and 672 of the Individuals with Disabilities Education Act (IDEA)).

Absolute Priority: For FY 2004 this priority is an absolute priority. Under 34 CFR 75.105(c)(3) we consider only applications that meet this priority.

This priority is:

National Center On Secondary, Transition, and Postsecondary School Outcomes for Students with Disabilities

Background: Better data on secondary and postsecondary school outcomes for students are needed to assess the effectiveness of programs and services provided under Part B of IDEA and to improve secondary and postsecondary school outcomes for students with disabilities.

While there is general agreement that assessing academic achievement should be part of school accountability systems, many individuals involved in the education of students with disabilities believe that for IDEA purposes it is also important to collect other types of information that focus on assessing transition and postsecondary school success.

A recent GAO study (GAO-03-773) entitled “Special Education: Federal Actions Can Assist States in Improving Postsecondary Outcomes for Youth” found that, while a majority of youth receiving IDEA services complete high school with a diploma, it is difficult to determine what happens to students after they leave high school.

GAO found that less than half of the States routinely collect data on students' employment or education status after graduation. Most States collecting postsecondary school data used it for program improvement purposes such as monitoring school districts or targeting schools for technical assistance. However, existing State methodologies for collecting such data often have limitations that preclude using the data to assess the status of youth in the State who are receiving IDEA services, or reduce the usefulness of the data in other ways.

GAO also found that many of the States that do not routinely collect postsecondary school data on the status of youth receiving IDEA services have expressed interest in doing so. For example, State educational agency officials familiar with State data collection efforts indicated that State and local school systems did not always have appropriate guidance on how data could be collected, analyzed, and used to improve programs and outcomes for youth with disabilities.

Priority: The Secretary establishes a priority for a cooperative agreement to support a National Center on Secondary, Transition, and Postsecondary School Outcomes for Students with Disabilities that will advance the development and use of secondary, transition, and postsecondary school outcome information. This center must conduct research activities and provide technical assistance to States, schools, communities, and agencies in developing and implementing practical, efficient, cost-effective, and sustainable strategies for collecting and using outcome data to improve secondary, transition, and postsecondary school outcomes.

Knowledge Development Activities of the Center must include, but are not limited to:

(a) Conducting a national survey to identify State systems for the collection of secondary, transition, and postsecondary school outcome data on youth with disabilities and to identify policies and practices that sustain these data systems.

(b) Conducting a literature review on the measures and methodologies that are used to collect data on secondary, transition, and postsecondary school outcomes for youth with disabilities.

(c) Conducting activities to develop and implement practical, efficient, cost-effective, and sustainable strategies for identifying, collecting, and using student secondary, transition, and postsecondary school data for school improvement.

(d) Reviewing the technical adequacy of measures used to assess secondary, transition, and postsecondary school outcomes.

Technical Assistance and Dissemination Activities of the Center must include, but are not limited to:

(a) Maintaining a user-friendly Web site with relevant information and documents in an accessible format, and responding to written and telephone inquiries with research validated information.

(b) Developing and implementing strategic technical assistance to States to assist them in (1) developing strategies for collecting and using secondary, transition, and postsecondary school outcome data; (2) developing approaches to assess the nature and extent of problems in data quality and address them; and (3) developing effective models for collecting and using data in districts and school sites and helping States replicate these throughout the State.

(c) Disseminating information on current practices for collection of secondary, transition, and postsecondary school outcome data.

(d) Conducting national and regional meetings, focused trainer forums, and other technical assistance activities on data collection, feedback, and the use of data to improve secondary education, transition, and postsecondary school outcomes. Meetings must be conducted to develop consensus among parents and other stakeholders on outcomes to be measured.

(e) Developing and applying strategies for the dissemination of information to specific audiences including teachers, parents, service providers, administrators, policy makers, and researchers. Such strategies must involve collaboration with other technical assistance providers, organizations, and researchers.

(f) Maintaining communication and collaboration with other Department of Education funded projects (such as the IDEA Partnerships, National Center on Educational Outcomes (NCEO), the Regional Resource Centers, the National Center on Secondary Education and Transition (NCSET), the National Center for Special Education Accountability and Monitoring (CSEAM), and Parent Training and Information Centers (PTIs)), and other agencies and organizations seeking to improve outcomes for youth with disabilities.

(g) Providing technical assistance to States focused on needs identified in a State survey to be conducted by the Center. The Center must also participate, as requested by the Office of Special Education Programs (OSEP), in providing technical assistance to States identified by OSEP as States in need. The Center must plan for assistance to three identified States per year (similar State assistance efforts have averaged approximately $40,000 per year).

The Center must also:

(a) Meet with the OSEP project officer in the first two months of the project to review and refine the strategic plan of technical assistance and dissemination approaches.

(b) Communicate with the OSEP project officer through monthly phone conversations and e-mail communication as needed. The Center must submit annual performance reports and provide additional written materials as needed for the OSEP project officer to monitor the Center's work.

(c) Establish, and meet at least annually with, a technical workgroup consisting of SEA and LEA data specialists, researchers, and other appropriate individuals to advise on the Center's technical and research activities.

(d) Conduct evaluations of the Center's specific activities and of the overall impact of those activities. The Center must report its evaluation findings annually to the OSEP project officer.

(e) Establish, maintain, and meet at least annually with an advisory committee consisting of representatives of SEAs and LEAs, individuals with disabilities, educators, parents, service providers, professional organizations and advocacy groups, and other appropriate groups to review and advise on the Center's activities and plans. The committee membership must include individuals from communities representing rural, low-income, urban, and limited English proficiency populations.

(f) Budget for (1) a two-day Project Directors' meeting in Washington, DC during each year of the project, (2) at least two annual planning meetings in DC, and (3) at least four two-day trips annually as requested by OSEP to attend meetings such as Department briefings, Department-sponsored conferences, and other OSEP requested activities.

Fourth and Fifth Years of Project: In deciding whether to continue this project for the fourth and fifth years, the Secretary will consider the requirements of 34 CFR 75.253(a), and in addition—

(a) The recommendation of a review team consisting of experts selected by the Secretary which review will be conducted during the last half of the project's second year in Washington, DC. Projects must budget for the travel associated with this one-day intensive review;

(b) The timeliness and effectiveness with which all requirements of the negotiated cooperative agreement have been or are being met by the Center; and

(c) Evidence of the degree to which the Center's activities have contributed to changed practices and improved child outcomes.

Waiver of Proposed Rulemaking: Under the Administrative Procedure Act (5 U.S.C. 553) the Department generally offers interested parties the opportunity to comment on proposed priorities. However, section 661(e)(2) of IDEA makes the public comment requirements inapplicable to the priority in this notice.

Program Authority: 20 U.S.C. 1461 and 1472.

Applicable Regulations: The Education Department General Administrative Regulations (EDGAR) in 34 CFR parts 74, 75, 77, 80, 81, 82, 84, 85, 86, 97, 98, and 99.

Note: The regulations in 34 CFR part 86 apply to IHEs only.

II. Award Information

Type of Award: Cooperative agreement.

Estimated Available Funds: $700,000.

Maximum Award: We will reject any application that proposes a budget exceeding $700,000 for a single budget period of 12 months. The Assistant Secretary for the Office of Special Education and Rehabilitative Services may change the maximum amount through a notice published in the Federal Register.

Number of Awards: 1.

Note: The Department is not bound by any estimates in this notice.

Project Period: Up to 60 months.

III. Eligibility Information

1. Eligible Applicants: SEAs, LEAs, IHEs, other public agencies, nonprofit private organizations, outlying areas, freely associated States, and Indian tribes or tribal organizations.

2. Cost Sharing or Matching: This competition does not involve cost sharing or matching.

3. Other: General Requirements—(a) The projects funded under this notice must make positive efforts to employ and advance in employment qualified individuals with disabilities (see section 606 of IDEA).

(b) Applicants and grant recipients funded under this notice must involve individuals with disabilities or parents of individuals with disabilities in planning, implementing, and evaluating the projects (see section 661(f)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.324S.

Individuals with disabilities may obtain a copy of the application package in an alternative format (e.g., Braille, large print, audiotape, or computer diskette) by contacting the Grants and Contracts Services Team listed under For Further Information Contact in section VII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:

Applications Available: June 7, 2004.

Deadline for Transmittal of Applications: July 19, 2004. The dates and times for the transmittal of applications by mail or by hand (including a courier service or commercial carrier) are in the application package for this competition. The application package also specifies the hours of operation of the e-Application Web site.

We do not consider an application that does not comply with the deadline requirements.

4. Intergovernmental Review: This program is not subject to Executive Order 12372 and the regulations in 34 CFR part 79.

5. Funding Restrictions: We reference regulations outlining funding restrictions in the Applicable Regulations section of this notice.

6. Other Submission Requirements: Instructions and requirements for the transmittal of applications by mail or by hand (including a courier service or commercial carrier) are in the application package for this competition.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

We are continuing to expand our pilot project for electronic submission of applications to include additional formula grant programs and additional discretionary grant competitions. The Special Education—Research and Innovation to Improve Services and Results for Children with Disabilities—National Center on Secondary, Transition, and Postsecondary School Outcomes for Students with Disabilities competition—CFDA Number 84.324S is one of the competitions included in the pilot project. If you are an applicant under the Special Education—Research and Innovation to Improve Services and Results for Children with Disabilities—National Center on Secondary, Transition, and Postsecondary school Outcomes for Students with Disabilities competition, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you elect to participate in the e-Application pilot for the Special Education—Research and Innovation to Improve Services and Results for Children with Disabilities—National Center on Secondary, Transition, and Postsecondary School Outcomes for Students with Disabilities competition and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-GRANTS help desk at 1-888-336-8930.

You may access the electronic grant application for the Special Education—Research and Innovation to Improve Services and Results for Children with Disabilities— National Center on Secondary, Transition, and Postsecondary School Outcomes for Students with Disabilities competition at: http://e-grants.ed.gov.

V. Application Review Information

Selection Criteria: The selection criteria for this competition are listed in 34 CFR 75.210 of EDGAR. The specific selection criteria to be used for this competition are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Because this project deals primarily with technical assistance activities, it will be assessed using performance measures for the Technical Assistance to Improve Services and Results for Children with Disabilities Program. Under the Government Performance and Results Act (GPRA), the Department is currently developing measures that will yield information on various aspects of the quality of the Technical Assistance to Improve Services and Results for Children with Disabilities Program (e.g., the extent to which projects use high quality methods and materials, provide useful products and services, and contribute to improving results for children with disabilities). Data on these measures will be collected from the projects funded under this notice.

Grantees will also be required to report information on their projects' performance in annual reports to the Department (EDGAR, 34 CFR 75.590).

VII. Agency Contact

FOR FURTHER INFORMATION CONTACT: Selete Avoke, U.S. Department of Education, 400 Maryland Avenue, SW., room 4120, Potomac Center Plaza, Washington, DC 20202-2641. Telephone: (202) 205-8157.

If you use a telecommunications device for the deaf (TDD), you may call the Federal Information Relay Service (FIRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 205-8207.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 1, 2004.
Troy R. Justesen,
Acting Deputy Assistant Secretary for Special Education and Rehabilitative Services.

[FR Doc. 04-12712 Filed 6-3-04; 8:45 am]

BILLING CODE 4000-01-P